DEPARTMENT OF THE INTERIOR

National Park Service

[NPS-WASO-NRNHL-DTS#-33657; PPWOCRADI0, PCU00RP14.R50000]

National Register of Historic Places; Notification of Pending Nominations and Related Actions

AGENCY: National Park Service, Interior.

ACTION: Notice.

SUMMARY: The National Park Service is soliciting electronic comments on the significance of properties nominated before March 26, 2022, for listing or related actions in the National Register of Historic Places.

DATES: Comments should be submitted electronically by April 28, 2022.

ADDRESSES: Comments are encouraged to be submitted electronically to National_Register_Submissions@nps.gov with the subject line “Public Comment on <property or proposed district name, (County) State>.” If you have no access to email you may send them via U.S. Postal Service and all other carriers to the National Register of Historic Places, National Park Service, 1849 C Street NW, MS 7228, Washington, DC 20240.

FOR FURTHER INFORMATION CONTACT: Sherry A. Frear, Chief, National Register of Historic Places/National Historic Landmarks Program, 1849 C Street NW, MS 7228, Washington, DC 20240, sherry_frear@nps.gov, 202-913-3763.

SUPPLEMENTARY INFORMATION: The properties listed in this notice are being considered for listing or related actions in the National Register of Historic Places. Nominations for their consideration were received by the National Park Service before March 26, 2022. Pursuant to Section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers:

DISTRICT OF COLUMBIA

District of Columbia

Seafarers Boat Club, 1950 M St. SE, Washington, SG100007666

National Park Service, National Capital Region and U.S. Park Police Headquarters Buildings (Mission 66 Era Visitor Centers, Administration Buildings, and Public Use Areas in the Maryland, Virginia, West Virginia, and the District of Columbia Parks of the National Capital Region, NPS MPS), 1100 Ohio Dr. SW, Washington, MP100007677

FLORIDA

Palm Beach County

Loxahatchee Battlefield, 9060 Indiantown Rd., Jupiter, SG100007672

IOWA

Lee County

Presbyterian Church, 316 3rd St., West Point, SG100007678

MICHIGAN

Kalamazoo County

Vicksburg Historic District, East Highway, North and South Main, East and West Maple, East and West Park, East and West Prairie, East and West South, and West Washington Sts.; North and South Kalamazoo and South Michigan Aves.; East and West Liberty Lns., Vicksburg, SG100007671

Gibson, Inc. Factory and Office Building, 225 Parsons St., Kalamazoo, SG100007673

NEW YORK

Albany County

Steamboat Square Historic District, 20 Rensselaer, 186-198, 189-205, 200, 202-214, 207-221, 220, 223-237, 230 Green, 58-66 Plum, and 159 Church Sts., Albany, SG100007670

Albany Perforated Wrapping Paper Co., 19 Erie Blvd., Albany, SG100007679

Bronx County

Hunts Point Rail Station, 904-918 Hunts Point Ave., Bronx, SG100007684

Chautauqua County

Pierce, Levi J. and Frances A., House, 21 Pearl St., Forestville (Town of Hanover), SG100007688

Erie County

Visco Meter Factory-Buerk Tool Factory (Black Rock Planning Neighborhood MPS), 293 Grote St. (Historic Address 315 Grote St.), Buffalo, MP100007689

Livingston County

Avon Village Historic District, Portions of East and West Main, Genesee, Prospect, Oak, Temple, Clinton, Cemetery, Doer, and Railroad Sts.; Fisk and Park Pls., and Wadsworth Ave., Avon, SG100007683

New York County

Paddy's Market Historic District, 450-542, 523-547 9th Ave.; 367 West 35th, 362, 365-367 West 36th, 354-356 West 37th, 355-357 West 38th, 352-354, 405-411 West 39th, 356, 402-410, 401-409 West 40th Sts., New York, SG100007686

Onondaga County

H.A. Moyer Factory Complex (Industrial Resources in the City of Syracuse, Onondaga County, NY MPS), 1710 North Salina and 301 Wolf Sts., Syracuse, MP100007668

Queens County

Kent Manor, 117-01 Park Ln. South, Kew Gardens, SG100007667

Rensselaer County

Lion Factory (Textile Factory Buildings in Troy, New York, 1880-1920 MPS), 750 2nd Ave., Troy, MP100007669

Steuben County

Erwin Town Hall, 117 West Water St., Painted Post, SG100007682

Sullivan County

Reformed Dutch Church of Mamakating, 134 Sullivan St., Wurtsboro, SG100007687

Ulster County

Woodstock Artists Association, 28 Tinker St., Woodstock, SG100007685

PENNSYLVANIA

Philadelphia County

Engine Company No. 29, 1221-1225 North 4th St., Philadelphia, SG100007674

WISCONSIN

Waukesha County

Daubner, George H. and Frances, House, 16680 West North Ave., Brookfield, SG100007680

Nomination submitted by Federal Preservation Officer:

The State Historic Preservation Officer reviewed the following nomination and responded to the Federal Preservation Officer within 45 days of receipt of the nomination and supports listing the property in the National Register of Historic Places.

VIRGINIA

Richmond Independent City

Maggie L. Walker National Historic Site (NHS), 110½, 112-114, 116-118 East Leigh and 600 and 602 North 2nd Sts., Richmond, SG100007681

Authority: Section 60.13 of 36 CFR part 60.

Dated: March 29, 2022.
Sherry A. Frear,
Chief, National Register of Historic Places/National Historic Landmarks Program.

[FR Doc. 2022-07886 Filed 4-12-22; 8:45 am]

BILLING CODE 4312-52-P